INTERNATIONAL TRADE COMMISSION

[Investigation Nos. 701-TA-694 and 731-TA-1641-1642 (Final)]

Aluminum Lithographic Printing Plates From China and Japan; Revised Schedule for the Subject Investigations

AGENCY: United States International Trade Commission.

ACTION: Notice.

DATES: August 5, 2024.

FOR FURTHER INFORMATION CONTACT: Celia Feldpausch (202-205-2387), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this proceeding may be viewed on the Commission's electronic docket (EDIS) at https://edis.usitc.gov.

SUPPLEMENTARY INFORMATION: Effective May 1, 2024, the Commission established a schedule for the conduct of the final phase of the subject investigations (89 FR 41993, May 14, 2024) following preliminary affirmative countervailing duty and sales-at-less-than-fair-value determinations by the U.S. Department of Commerce (“Commerce”) with respect to aluminum lithographic printing plates (“ALPs”) from China and Japan (89 FR 15134, March 1, 2024; 89 FR 35062 and 89 FR 35065, May 1, 2024). Subsequently, Commerce issued a memorandum tolling certain statutory and regulatory deadlines by a total of seven days (Memorandum to the Record, Tolling of Deadlines for Antidumping and Countervailing Duty Proceedings, July 22, 2024). The Commission, therefore, is revising its schedule to conform with Commerce's new schedule.

The Commission's revised dates in the schedule are as follows. The prehearing staff report in the final phase of these investigations will be placed in the nonpublic record on September 3, 2024, and a public version will be issued thereafter, pursuant to § 207.22 of the Commission's rules. The deadline for filing prehearing briefs is 5:15 p.m. on September 10, 2024; if a brief contains business proprietary information, a nonbusiness proprietary version is due the following business day. The prehearing conference will be held at the U.S. International Trade Commission Building at 9:30 a.m. on September 13, 2024, if deemed necessary. Parties shall file and serve written testimony and presentation slides in connection with their presentation at the hearing by no later than 4:00 p.m. on September 16, 2024. The hearing will be held at the U.S. International Trade Commission Building at 9:30 a.m. on September 17, 2024. The deadline for filing posthearing briefs is September 26, 2024. Any person who has not entered an appearance as a party to these investigations may submit a written statement of information pertinent to the subject of these investigations, including statements of support or opposition to the petitions, on or before September 26, 2024. On October 15, 2024, the Commission will make available to parties all information on which they have not had an opportunity to comment. Parties may submit final comments on this information on or before October 17, 2024. The deadline for filing appearances is 21 days before the hearing.

For further information concerning this proceeding, see the Commission's notice cited above and the Commission's Rules of Practice and Procedure, part 201, subparts A through E (19 CFR part 201), and part 207, subparts A and C (19 CFR part 207).

Authority: These investigations are being conducted under authority of title VII of the Tariff Act of 1930; this notice is published pursuant to § 207.21 of the Commission's rules.

By order of the Commission.
Issued: August 8, 2024.
Lisa Barton,
Secretary to the Commission.

[FR Doc. 2024-18019 Filed 8-12-24; 8:45 am]

BILLING CODE 7020-02-P